DEPARTMENT OF STATE

[Public Notice: 8709]

60-Day Notice of Proposed Information Collection: Affidavit Regarding a Change of Name

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 30, 2014.

ADDRESSES: You may submit comments by any of the following methods:

• Web: Persons with access to the Internet may use the Federal Docket Management System (FDMS) to comment on this notice by going to www.Regulations.gov. You can search for the document by entering “Public Notice 8709” in the Search bar. If necessary, use the Narrow by Agency filter option on the Results page.

• Email: PPTFormsOfficer@state.gov

• Mail: PPT Forms Officer, U.S. Department of State, 2201 C Street NW., Washington, DC 20520.

• Fax: (202) 485-6496 (include a cover sheet addressed to “PPT Forms Officer” referencing the DS form number, information collection title, and OMB control number).

• Hand Delivery or Courier: PPT Forms Officer, U.S. Department of State, 2201 C Street NW., Washington, DC 20520.

You must include the DS form number (if applicable), information collection title, and OMB control number in any correspondence.

FOR FURTHER INFORMATION CONTACT: Direct requests for additional information regarding the collection listed in this notice, including requests for copies of the proposed information collection and supporting documents, to Passport Forms Management Officer, U.S. Department of State, Office of Program Management and Operational Support, 2201 C Street NW., Washington, DC 20520, who may be reached on (202) 485-6373 or at PPTFormsOfficer@state.gov.

SUPPLEMENTARY INFORMATION: • Title of Information Collection: Affidavit Regarding a Change of Name.

• OMB Control Number: 1405-0133.

• Type of Request: Revision of a Currently Approved Collection.

• Originating Office: Bureau of Consular Affairs, CA/PPT.

• Form Number: DS-60.

• Respondents: Individuals or Households.

• Estimated Number of Respondents: 159,671 per year.

• Estimated Number of Responses: 159,671 per year.

• Average Hours Per Response: 40 minutes.

• Total Estimated Burden: 106,447 hours.

• Frequency: On Occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology. Please note that comments submitted in response to this Notice are public record. Before including any detailed personal information, you should be aware that your comments as submitted, including your personal information, will be available for public review.

Abstract of proposed collection: The Affidavit Regarding a Change of Name is submitted in conjunction with an application for a U.S. passport. It is used by Passport Services to collect information for the purpose of establishing that a passport applicant has adopted a new name without formal court proceedings or by marriage and has publicly and exclusively used the adopted name over a period of time (at least five years).

Methodology: When needed, the Affidavit Regarding a Change of Name is completed at the time a U.S. citizen applies for a U.S. passport.

Dated: April 17, 2014.
Brenda Sprague,
Deputy Assistant Secretary for Passport Services, Bureau of Consular Affairs, Department of State.

[FR Doc. 2014-09847 Filed 4-29-14; 8:45 am]

BILLING CODE 4710-06-P